DEPARTMENT OF COMMERCE

International Trade Administration

[C-570-980]

Crystalline Silicon Photovoltaic Cells, Whether or Not Assembled Into Modules, From the People's Republic of China: Preliminary Results of Countervailing Duty Administrative Review and Rescission of Review, in Part; 2017

AGENCY: Enforcement and Compliance, International Trade Administration, Department of Commerce.

SUMMARY: The Department of Commerce (Commerce) preliminarily determines that producers/exporters subject to this administrative review received countervailable subsidies. Interested parties are invited to comment on these preliminary results.

DATES: Applicable February 11, 2020.

FOR FURTHER INFORMATION CONTACT: Gene H. Calvert AD/CVD Operations, Office VII, Enforcement and Compliance, International Trade Administration, U.S. Department of Commerce, 1401 Constitution Avenue NW, Washington, DC 20230; telephone: (202) 482-3586.

SUPPLEMENTARY INFORMATION:

Background

On March 14, 2019, Commerce initiated an administrative review of the countervailing duty order on crystalline silicon photovoltaic cells, whether or not assembled into modules, from the People's Republic of China (China).¹ The period of review (POR) is January 1, 2017 through December 31, 2017. On October 1, 2019, Commerce extended the deadline for these preliminary results until no later than January 31, 2020.² For a complete description of the events that followed the initiation of this review, see the Preliminary Decision Memorandum.³ A list of topics discussed in the Preliminary Decision Memorandum is included as the appendix to this notice. The Preliminary Decision Memorandum is a public document and is on file electronically via Enforcement and Compliance's Antidumping and Countervailing Duty Centralized Electronic System (ACCESS). ACCESS is available to registered users at http://access.trade.gov, and to all parties in the Central Records Unit, Room B8024 of the main Commerce building. In addition, a complete version of the Preliminary Decision Memorandum can be accessed directly at http://enforcement.trade.gov/frn/. The signed and electronic versions of the Preliminary Decision Memorandum are identical in content.

¹ See Initiation of Antidumping and Countervailing Duty Administrative Reviews, 84 FR 9297 (March 14, 2019).

² See Memorandum, “Crystalline Silicon Photovoltaic Cells, Whether or Not Assembled Into Modules, from the People's Republic of China: Extension of Deadline for Preliminary Results of Countervailing Duty Administrative Review,” dated October 1, 2019.

³ See Memorandum, “Decision Memorandum for the Preliminary Results of the Administrative Review of the Countervailing Duty Order on Crystalline Silicon Photovoltaic Cells, Whether or Not Assembled Into Modules, from the People's Republic of China; 2017,” dated concurrently with, and hereby adopted by, this notice (Preliminary Decision Memorandum).

Scope of the Order

The products covered by the countervailing duty order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Methodology

Commerce is conducting this administrative review in accordance with section 751(a)(1)(A) of the Tariff Act of 1930, as amended (the Act). For each of the subsidy programs found countervailable, Commerce preliminarily finds that there is a subsidy, (i.e., a financial contribution from an authority that gives rise to a benefit to the recipient) and that the subsidy is specific.⁴ In making this preliminary determination, Commerce relied, in part, on facts otherwise available, with the application of adverse inferences.⁵ For further information, see “Use of Facts Otherwise Available and Application of Adverse Inferences” in the accompanying Preliminary Decision Memorandum.

⁴ See sections 771(5)(B) and (D) of the Act regarding financial contribution; section 771(5)(E) of the Act regarding benefit; and section 771(5A) of the Act regarding specificity.

⁵ See section 776(a) of the Act.

Rescission of Administrative Review, in Part

Pursuant to 19 CFR 351.213(d)(1), Commerce will rescind an administrative review, in whole or in part, if the parties that requested a review withdraw the request within 90 days of the date of publication of the notice of initiation of the requested review. This review was initiated on March 14, 2019. On April 30, 2019, SunPower Manufacturing, Oregon LLC (SunPower) timely withdrew its request for reviews on Chint Solar Zhejiang Co., Ltd. (Chint Solar); Shenzhen Topray Solar Co., Ltd. (Shenzhen Topray); and Zhejiang Sunflower Light Energy Science & Technology Limited Liability Company (Zhejiang Sunflower).⁶ On May 24, 2019, Chint Solar timely withdrew its request for a review of its own POR entries, and requested that Commerce rescind the review of Chint Solar because all other parties requesting a review of Chint Solar had also withdrawn their requests for a review of Chint Solar.⁷ Because all parties that requested a review of these companies timely withdrew their requests for these companies, Commerce is rescinding this review with respect to Chint Solar, Shenzhen Topray, and Zhejiang Sunflower, in accordance with 19 CFR 351.213(d)(1).

⁶ See SunPower's Letter, “Crystalline Silicon Photovoltaic Cells, Whether or Not Assembled into Modules, from the People's Republic of China: Withdrawal of Request for Administrative Review,” April 30, 2019; see also SunPower's Letter, “Crystalline Silicon Photovoltaic Cells, Whether or Not Assembled Into Modules, from the People's Republic of China: Request for Administrative Review,” dated December 31, 2018.

⁷ See Chint Solar's Letter, “Chint Solar Withdrawal of Review Request: Administrative Review of the Countervailing Duty Order on Crystalline Silicon Photovoltaic Cells, Whether or Not Assembled Into Modules (C-570-980) (POR: 01/01/17-12/31/17),” dated May 24, 2019.

Further, Commerce received a timely filed certification of no shipments from Shenzhen Glory Industries Co., Ltd. (Shenzhen Glory).⁸ To confirm Shenzhen Glory's statement, Commerce issued a no-shipments inquiry to U.S. Customs and Border Protection (CBP) with regard to imports of subject merchandise with respect to imports of subject merchandise from Shenzhen Glory during the POR.⁹ On January 14, 2020, CBP responded to Commerce's no-shipments inquiry regarding Shenzhen Glory stating that it found no shipments of subject merchandise from China that were produced and/or exported by Shenzhen Glory during the POR.¹⁰ As there is no evidence on the record that Shenzhen Glory made entries of subject merchandise into the United States during the POR, Commerce is rescinding this review with respect to Shenzhen Glory, in accordance with 19 CFR 351.213(d)(3).

⁸ See Shenzhen Glory's Letter, “Crystalline Silicon Photovoltaic Cells from the People's Republic of China—No Sales Certification,” dated April 12, 2019.

⁹ See CBP message no. 0014406, dated January 14, 2020.

¹⁰ See Memorandum, “Crystalline Silicon photovoltaic cells from the People's Republic of China (C-570-980),” dated January 21, 2020.

Preliminary Results of Review

Commerce preliminarily determines the net countervailable subsidy rates for the period January 1, 2017 through December 31, 2017, are as follows:

¹¹ Cross-owned entity is: Shanghai JA Solar Technology Co., Ltd.; JA (Hefei) Renewable Energy Co., Ltd.; Hefei JA Solar Technology Co., Ltd.; JA Solar Investment China Co., Ltd.; JA Solar Technology Yangzhou Co., Ltd.; Jing Hai Yang Semiconductor Material (Donghai) Co., Ltd.; Donghai JingAo The Solar Energy Science and Technology Co., Ltd.; Solar Silicon Valley Electronic Science and Technology Co., Ltd.; Jingwei Electronic Materials Co., Ltd.; Hebei Yujing Electronic Science and Technology Co., Ltd.; Solar Silicon Peak Electronic Science and Technology Co., Ltd.; Beijing Jinfeng Investment Co., Ltd.; Jinglong Technology Holdings Co., Ltd.; JingAo Solar Co., Ltd.; Ningjin Songgong Electronic Materials Co., Ltd.; Jinglong Industry and Commerce Group Co., Ltd.; Ningjin Guiguang Electronic Investment Co., Ltd.; Ningjin County Jingyuan New Energy Investment Co., Ltd.; Hebei Jinglong Fine Chemicals Co., Ltd.; Ningjin Sunshine New Energy Co., Ltd.; Hebei Jinglong Sunshine Equipment Co., Ltd.; Hebei Jingle Optoelectronic Technology Co., Ltd.; Hebei Ningjin Songgong Semiconductor Co., Ltd.; Ningjin Jingxing Electronic Material Co., Ltd.; Ningjin Jingfeng Electronic Materials Co., Ltd.; Ningjin Saimei Ganglong Electronic Materials Co., Ltd.; Hebei Ningtong Electronic Materials Co., Ltd.; Ningjin Changlong Electronic Materials Manufacturing Co. Ltd.; JA Solar (Xingtai) Co., Ltd.; Xingtai Jinglong Electronic Material Co., Ltd.; Xingtai Jinglong PV Materials Co., Ltd.; Taicang Juren PV Material Co., Ltd.; JA PV Technology Co., Ltd.; Ningjin Longxin Investment Co., Ltd.; and Ningjin Jinglong PV Industry Investment Co., Ltd. See Preliminary Decision Memorandum.

¹² The cross-owned entity is: Risen Energy Co., Ltd.; Changzhou Sveck Photovoltaic New Material Co., Ltd.; Changzhou Sveck New Material Technology Co., Ltd.; JiuJiang Shengchao Xinye Technology Co., Ltd.; Jiangsu Sveck New Material Co., Ltd.; Ninghai Risen Energy Power Development Co., Ltd.; Risen (Luoyang) New Energy Co., Ltd.; Risen (Ningbo) Electric Power Development Co., Ltd.; Risen (Wuhai) New Energy Co., Ltd.; Zhejiang Boxin Investment Co., Ltd.; and Zhejiang Twinsel Electronic Technology Co., Ltd. See Preliminary Decision Memorandum.

¹³ See Appendix II of this notice for a list of all companies that remain under review but were not selected for individual examination, and to whom Commerce has preliminarily assigned the non-selected company rate.

Company | Subsidy rate (percent)
JA Solar Technology Yangzhou Co., Ltd. and Cross-Owned Affiliates ¹¹ | 19.15
Risen Energy Co., Ltd. and Cross-Owned Affiliates ¹² | 16.40
Non-Selected Companies Under Review ¹³ | 17.25

Preliminary Rate for Non-Selected Companies Under Review

The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides instructions for calculating the all-others rate in an investigation. Section 705(c)(5)(A)(i) of the Act instructs Commerce, as a general rule, to calculate an all-others rate using the weighted average of the subsidy rates established for the producers/exporters individually examined, excluding any zero, de minimis, or rates based entirely on facts available. For the companies for which a review was requested that were not selected as mandatory company respondents, and for which Commerce did not receive a timely request for withdrawal of review, and for which Commerce is not finding to be cross-owned with the mandatory company respondents, Commerce based the subsidy rate on a weighted-average of the subsidy rates calculated for the two mandatory respondents, JA Solar Technology Yangzhou Co., Ltd. and Risen Energy Co., Ltd., using their publicly-ranged sales data for exports of subject merchandise to the United States during the POR. A list of these non-selected companies can be found in Appendix II of this notice.

Disclosure and Public Comment

Commerce intends to disclose to parties to this proceeding the calculations performed in reaching the preliminary results within five days of the date of publication of these preliminary results.¹⁴ Interested parties may submit written comments (case briefs) at a date to be determined by Commerce and rebuttal comments (rebuttal briefs) within five days after the time limit for filing case briefs.¹⁵ Rebuttal briefs must be limited to issues raised in the case briefs.¹⁶ Commerce will notify interested parties when it has determined a deadline for case briefs. Parties who submit case or rebuttal briefs are requested to submit with the argument: (1) A statement of the issue; (2) a brief summary of the argument; and (3) a table of authorities.¹⁷

¹⁴ See 19 CFR 351.224(b).

¹⁵ See 19 CFR 351.309(c)(l)(ii) and 351.309(d)(l). Interested parties will be notified through ACCESS regarding the deadline for submitting case briefs.

¹⁶ See 19 CFR 351.309(d)(2).

¹⁷ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹⁸ Hearing requests should contain: (1) The party's name, address, and telephone number; (2) the number of participants; and (3) a list of the issues to be discussed. If a request for a hearing is made, Commerce will inform parties of the scheduled date for the hearing, which will be held at the U.S. Department of Commerce, 1401 Constitution Avenue NW, Washington, DC 20230, at a time and location to be determined.¹⁹ Parties should confirm by telephone the date, time, and location of the hearing. Issues addressed at the hearing will be limited to those raised in the briefs.²⁰ All briefs and hearing requests must be filed electronically and received successfully in their entirety through ACCESS by 5:00 p.m. Eastern Time by their respective deadlines.

¹⁸ See 19 CFR 351.310(c).

¹⁹ See 19 CFR 351.310.

²⁰ See 19 CFR 351.310(c).

Unless the deadline is extended pursuant to section 751(a)(3)(A) of the Act, Commerce intends to issue the final results of this administrative review, including the results of its analysis of the issues raised by the parties in their comments, within 120 days after publication of these preliminary results.

Assessment Rates and Cash Deposit Requirement

In accordance with 19 CFR 351.221(b)(4)(i), Commerce assigned a subsidy rate for each producer/exporter subject to this administrative review. Upon issuance of the final results, Commerce shall determine, and CBP shall assess, countervailing duties on all appropriate entries covered by this review. Commerce intends to issue instructions to CBP 15 days after publication of the final results of review. For companies for which this review is rescinded, Commerce will instruct CBP to assess countervailing duties on all appropriate entries at a rate equal to the cash deposit of estimated countervailing duties required at the time of entry, or withdrawal from warehouse, for consumption, during the period January 1, 2017 through December 31, 2017, in accordance with 19 CFR 351.212(c)(1)(i). Commerce intends to issue appropriate assessment instructions directly to CBP 15 days after publication of this notice.

Pursuant to section 751(a)(2)(C) of the Act, Commerce also intends to instruct CBP to collect cash deposits of estimated countervailing duties, in the amounts shown above for each of the respective companies shown above, on shipments of subject merchandise entered, or withdrawn from warehouse, for consumption on or after the date of publication of the final results of this review. For all non-reviewed firms, Commerce will instruct CBP to continue to collect cash deposits at the most-recent company-specific or all-others rate applicable to the company, as appropriate. These cash deposit requirements, when imposed, shall remain in effect until further notice.

Notification to Interested Parties

Commerce is issuing and publishing these preliminary results in accordance with sections 751(a)(l) and 777(i)(l) of the Act, and 19 CFR 351.213 and 351.221(b)(4).

Dated: January 31, 2020.
Jeffrey I. Kessler,
Assistant Secretary for Enforcement and Compliance.

Appendix I

List of Topics Discussed in the Preliminary Decision Memorandum

I. Summary

II. Background

III. Rescission of Administrative Review, in Part

IV. Non-Selected Companies Under Review

V. Scope of the Order

VI. Application of the Countervailing Duty Law to Imports from China

VII. Diversification of China's Economy

VIII. Subsidies Valuation

IX. Interest Rate Benchmarks, Discount Rates, Inputs, Electricity, and Land Benchmarks

X. Use of Facts Otherwise Available and Application of Adverse Inferences

XI. Analysis of Programs

XII. Disclosure and Public Comment

XIII. Recommendation

Appendix II

Non-Selected Companies Under Review

1. Anji DaSol Solar Energy Science & Technology Co., Ltd.

2. Baoding Jiasheng Photovoltaic Technology Co., Ltd.

3. Baoding Tianwei Yingli New Energy Resources Co., Ltd.

4. Beijing Tianneng Yingli New Energy Resources Co., Ltd.

5. BYD (Shangluo) Industrial Co., Ltd.

6. Canadian Solar (USA) Inc.

7. Canadian Solar Inc.

8. Canadian Solar International Ltd.

9. Canadian Solar Manufacturing (Changshu) Inc.

10. Canadian Solar Manufacturing (Luoyang) Inc.

11. Changzhou Trina Solar Yabang Energy Co., Ltd.

12. CSI Cells Co., Ltd.

13. CSI-GCL Solar Manufacturing (Yancheng) Co., Ltd.

14. De-Tech Trading Limited HK

15. Dongguan Sunworth Solar Energy Co., Ltd.

16. Eoplly New Energy Technology Co., Ltd.

17. ERA Solar Co., Ltd.

18. ET Solar Energy Limited

19. Hainan Yingli New Energy Resources Co., Ltd.

20. Hangzhou Sunny Energy Science and Technology Co., Ltd.

21. Hengdian Group DMEGC Magnetics Co., Ltd.

22. Hengshui Yingli New Energy Resources Co., Ltd.

23. Hubei Trina Solar Energy Co., Ltd.

24. JA Technology Yangzhou Co., Ltd.

25. Jiangsu High Hope Int'l Group

26. Jiawei Solarchina (Shenzhen) Co., Ltd.

27. Jiawei Solarchina Co., Ltd.

28. Jinko Solar (U.S.) Inc.

29. Jinko Solar Co., Ltd.

30. Jinko Solar Import and Export Co., Ltd.

31. Jinko Solar International Limited

32. LERRI Solar Technology Co., Ltd.

33. Lightway Green New Energy Co., Ltd.

34. Lixian Yingli New Energy Resources Co., Ltd.

35. Luoyang Suntech Power Co., Ltd.

36. Nice Sun PV Co., Ltd.

37. Ningbo ETDZ Holdings, Ltd.

38. Ningbo Qixin Solar Electrical Appliance Co., Ltd.

39. Shanghai BYD Co., Ltd.

40. Shenzhen Sungold Solar Co., Ltd.

41. Shenzhen Yingli New Energy Resources Co., Ltd.

42. Sumec Hardware & Tools Co., Ltd.

43. Sunpreme Solar Technology (Jiaxing) Co., Ltd.

44. Systemes Versilis, Inc.

45. Taizhou BD Trade Co., Ltd.

46. TenKsolar (Shanghai) Co., Ltd.

47. Tianjin Yingli New Energy Resources Co., Ltd.

48. Tianneng Yingli New Energy Resources Co., Ltd.

49. Toenergy Technology Hangzhou Co., Ltd.

50. Trina Solar (Changzhou) Science & Technology Co., Ltd.

51. Trina Solar Energy Co., Ltd. (formerly known as Changzhou Trina Solar Energy Co., Ltd.)

52. Turpan Trina Solar Energy Co., Ltd.

53. Wuxi Suntech Power Co., Ltd.

54. Wuxi Tianran Photovoltaic Co., Ltd.

55. Yancheng Trina Solar Energy Technology Co., Ltd.

56. Yingli Energy (China) Co., Ltd.

57. Yingli Green Energy Holding Company Limited

58. Yingli Green Energy International Trading Company Limited

59. Zhejiang ERA Solar Technology Co., Ltd.

60. Zhejiang Jinko Solar Co., Ltd.

[FR Doc. 2020-02676 Filed 2-10-20; 8:45 am]

BILLING CODE 3510-DS-P